DEPARTMENT OF LABOR

Employment and Training Administration

Notice of a Change in Status of an Extended Benefit (EB) Period for Alabama.

AGENCY: Employment and Training Administration, Labor.

ACTION: Notice.

SUMMARY: This notice announces a change in benefit period eligibility under the EB program for Alabama.

The following change has occurred since the publication of the last notice regarding Alabama's EB status:

• Alabama has enacted a retroactive TUR trigger for their EB program. Alabama would have triggered on with the release of state total unemployment rates (TURs) for January 2009, released by the Bureau of Labor Statistics on March 11, 2009. This means their current EB period began March 29, 2009. In addition, the three month average seasonally adjusted TUR rose above the 8.0 percent threshold for a High Unemployment Period (HUP) with the release of March TURs on April 17, 2009. As a result, a HUP in the EB program began in Alabama on May 3. Eligible claimants will be able to receive up to 20 weeks of additional benefits.

Information for Claimants

The duration of benefits payable in the EB Program, and the terms and conditions on which they are payable, are governed by the Federal-State Extended Unemployment Compensation Act of 1970, as amended, and the operating instructions issued to the states by the U.S. Department of Labor. In the case of a state beginning a HUP period, the State Workforce Agency will furnish a written notice of potential entitlement to each individual who may be eligible for increased benefits due to the HUP (20 CFR 615.13 (c) (1)).

Persons who wish to inquire about their rights under the program should contact their State Workforce Agency.

FOR FURTHER INFORMATION CONTACT: Scott Gibbons, U.S. Department of Labor, Employment and Training Administration, Office of Workforce Security, 200 Constitution Avenue NW., Frances Perkins Bldg. Room S-4231, Washington, DC 20210, telephone number (202) 693-3008 (this is not a toll-free number) or by e-mail: gibbons.scott@dol.gov.

Signed in Washington, DC, this 23rd day of September, 2009.
Jane Oates,
Assistant Secretary, Employment and Training Administration.

[FR Doc. E9-23353 Filed 9-25-09; 8:45 am]

BILLING CODE 4510-FW-P